DEPARTMENT OF ENERGY

Federal Energy Regulatory Commission

[Docket No. IC10-580-001]

Commission Information Collection Activities (FERC Form No. 580) Request; Submitted for OMB Review; Correction

June 29, 2010.

AGENCY: Federal Energy Regulatory Commission.

ACTION: Notice; correction.

SUMMARY: The Federal Energy Regulatory Commission published in the Federal Register of June 21, 2010, a notice regarding its submission of information collection to the Office of Management and Budget for review of information collection requirements.

DATES: Effective Date: July 6, 2010.

FOR FURTHER INFORMATION CONTACT: Michael Miller, Office of the Deputy Chief Information Officer, Federal Energy Regulatory Commission, 888 First Street, NE., Washington, DC 20426, (202) 502-8415.

SUPPLEMENTARY INFORMATION: In FR Document 2010-14953, published June 21, 2010 (75 FR 35003) make the following corrections to two tables in the notice which provide estimates of reporting burdens:

On page 35006, column 3, change the Total from “4150” to “4050.”

On page 35006, columns 2 and 3, in the table providing Form 580 data, change total from “4150” to “4050” and change the figure of “$275,104” to “$268,456.”

Kimberly D. Bose,
Secretary.

[FR Doc. 2010-16295 Filed 7-2-10; 8:45 am]

BILLING CODE 6717-01-P